DEPARTMENT OF COMMERCE

National Oceanic and Atmospheric Administration

RIN 0648-XG18

Identification of Nations Whose Fishing Vessels are Engaged in Illegal, Unreported, or Unregulated Fishing and/or Bycatch of Protected Living Marine Resources

AGENCY: National Marine Fisheries Service (NMFS), National Oceanic and Atmospheric Administration (NOAA), Commerce.

ACTION: Notice and request for information.

SUMMARY: NMFS is seeking information regarding nations whose vessels are engaged in illegal, unregulated, or unreported (IUU) fishing or bycatch of protected living marine resources (PLMRs). Such information will be reviewed for the purposes of the identification of nations pursuant to the High Seas Driftnet Fishing Moratorium Protection Act (Moratorium Protection Act).

DATES: Information should be received on or before April 5, 2010.

ADDRESSES: Information should be submitted to NMFS Office of International Affairs, Attn.: MSRA Information, 1315 East-West Highway, Silver Spring, MD 20910. E-mail address: IUU.PLMR.INFO@noaa.gov or fax (301) 713-9106.

FOR FURTHER INFORMATION CONTACT: NMFS Office of International Affairs, e-mail address: IUU.PLMR.INFO@noaa.gov.

SUPPLEMENTARY INFORMATION: The Magnuson-Stevens Fishery Conservation and Management Reauthorization Act of 2006 (MSRA) amended the Moratorium Protection Act (16 U.S.C. 1826d-k) to require actions be taken by the United States to strengthen international fishery management organizations and address IUU fishing and bycatch of PLMRs. Specifically, the Moratorium Protection Act requires the Secretary of Commerce (Secretary) to identify in a biennial report to Congress those nations whose fishing vessels are engaged, or have been engaged at any point during the preceding 2 years, in IUU fishing. In this context, IUU fishing is defined (16 U.S.C. 1826j; 50 CFR 300.200-201) as:

(1) Fishing activities that violate conservation and management measures required under an international fishery management agreement to which the United States is a party, including catch limits or quotas, capacity restrictions, and bycatch reduction requirements;

(2) Overfishing of fish stocks shared by the United States, for which there are no applicable international conservation or management measures or in areas with no applicable international fishery management organization or agreement, that has adverse impacts on such stocks; and

(3) Fishing activity that has an adverse impact on seamounts, hydrothermal vents, and cold water corals located beyond national jurisdiction, for which there are no applicable conservation or management measures or in areas with no applicable international fishery management organization or agreement.

Additionally, the Secretary must identify in the biennial report those nations whose fishing vessels are engaged, or have been engaged during the preceding calendar year, in fishing activities either (1) in waters beyond any national jurisdiction that result in bycatch of a PLMR, or (2) beyond the U.S. exclusive economic zone (EEZ) that result in bycatch of a PLMR shared by the United States. In this context, PLMRs are defined as non-target fish, sea turtles, or marine mammals that are protected under U.S. law or international agreement, including the Marine Mammal Protection Act, the Endangered Species Act, the Shark Finning Prohibition Act, and the Convention on International Trade in Endangered Species of Wild Flora and Fauna. PLMRs do not include species, except sharks, managed under the Magnuson-Stevens Fishery Conservation and Management Act, the Atlantic Tunas Convention Act, or any international fishery management agreement. (A list of species considered as PLMRs for this purpose is available online at: http://www.nmfs.noaa.gov/msa2007/mrip.htm)

The first biennial report was submitted to Congress in January 2009 and is available online at http://www.nmfs.noaa.gov/msa2007/docs/msra_biennial_report_011309.pdf. The report identified six nations for IUU fishing.

The Moratorium Protection Act also requires the Secretary to establish procedures to certify whether each nation identified in the biennial report is taking appropriate corrective action to address IUU fishing and/or bycatch of PLMRs by fishing vessels of that nation. If a nation does not receive a positive certification by the Secretary, they could be subject to sanctions under the High Seas Driftnet Fisheries Enforcement Act (Enforcement Act)(16 U.S.C. 1826a). On January 14, 2009, NMFS published a proposed rule to implement both the identification and certification procedures. (That proposed rule is available online at http://www.nmfs.noaa.gov/msa2007/docs/iuu_bycatch_rule011409.pdf.)The rule provides information regarding the identification process and how the information solicited here will be used in that process.

In fulfillment of its requirements under the Moratorium Protection Act, NMFS is preparing the second biennial report to Congress, which will identify nations whose fishing vessels are engaged in IUU fishing, or fishing practices that result in bycatch of PLMRs. NMFS is soliciting information from the public that could assist in its identification of nations engaged in activities that meet one or more of the three criteria described above for IUU fishing or one or more of the two criteria described above for PLMR bycatch. Information that may prove useful to NMFS includes:

• Documentation (photographs, etc.) of IUU activity or PLMR bycatch;

• Fishing vessel records;

• Reports from off-loading facilities, port-side government officials, enforcement agents, military personnel, port inspectors, transshipment vessel workers and fish importers;

• Government vessel registries;

• IUU vessel lists from RFMOs;

• RFMO catch documents and statistical document programs;

• Appropriate certification programs; and

• Reports from governments, international organizations, or nongovernmental organizations.

NMFS will consider all available information, as appropriate, when making a determination whether or not to identify a particular nation in the biennial report to Congress. NMFS is particularly interested in information on IUU fishing activity and bycatch of PLMRs that occurred during 2009-2010. NMFS will consider several criteria when determining whether information is appropriate for use in making identifications, including but not limited to:

• Corroboration of information;

• Whether multiple sources have been able to provide information in support of an identification;

• The methodology used to collect the information;

• Specificity of the information provided;

• Susceptibility of the information to falsification and alteration; and

• Credibility of the individuals or organization providing the information.

Information should be as specific as possible as this will assist NMFS in its review.

Dated: March 1, 2010.
Rebecca Lent,
Director, Office of International Affairs, NOAA Fisheries Service.

[FR Doc. 2010-4680 Filed 3-4-10; 8:45 am]

BILLING CODE 3510-22-S